DEPARTMENT OF THE INTERIOR

Fish and Wildlife Service

[FWS-R3-ES-2016-N094; FVES59420300000F2 14X FF03E00000]

Hoopeston Wind Farm Draft Habitat Conservation Plan; Draft Environmental Assessment

AGENCY: Fish and Wildlife Service, Interior.

ACTION: Receipt of application; draft habitat conservation plan; draft environmental assessment; and request for comments.

SUMMARY: Pursuant to the Endangered Species Act (ESA) and the National Environmental Policy Act (NEPA), we, the U.S. Fish and Wildlife Service (Service), announce the availability of an application from Hoopeston Wind Farm LLC (Applicant) for a permit to incidentally take federally endangered Indiana bats and federally threatened northern long-eared bats. The take could result from operation and decommissioning activities at the Applicant's facility in Vermilion County, Illinois. Included with the application is a draft habitat conservation plan (HCP). Also available for review is our draft environmental assessment (EA) that was prepared in response to the application. We are seeking public comments on the permit application, draft HCP, and draft EA.

DATES: To ensure consideration, please submit your comments on or before April 10, 2017.

ADDRESSES: Availability of Documents: The draft habitat conservation plan (HCP) and draft environmental assessment (EA) are available on the Midwest Region's Web site at http://www.fws.gov/Midwest/endangered/permits/hcp/r3hcps.html. Alternatively, copies of the permit application, draft HCP, and draft EA will be available for public review during regular business hours at the Rock Island Field Office (see ADDRESSES). Those who do not have access to the Web site or cannot visit our office can request copies by telephone at 309-757-5800 or by letter to the Rock Island Field Office (see ADDRESSES).

Submitting Comments: Send comments to Kraig McPeek by U.S. mail at U.S. Fish and Wildlife Service, Rock Island Field Office, 1511 47th Avenue, Moline, IL 61265; by facsimile to 309-757-5807; or by electronic mail to RockIsland@fws.gov. In the subject line of your letter, facsimile, or electronic mail, include the document identifier “Hoopeston Wind Farm HCP.”

SUPPLEMENTARY INFORMATION: Pursuant to section 10(a)(1)(B) of the Endangered Species Act (16 U.S.C. 1531 et seq.; ESA) and the National Environmental Policy Act (42 U.S.C. 4321, et seq.; NEPA), we, the U.S. Fish and Wildlife Service (Service), announce the availability of an application from Hoopeston Wind Farm LLC for a permit to incidentally take federally endangered Indiana bats (Myotis sodalis) and federally threatened northern long-eared bats (Myotis septentrionalis) that could result from operation, and decommissioning activities at the Applicant's facility in Vermilion County, Illinois. Included with the application is a draft habitat conservation plan (HCP). The draft HCP describes how take of Indiana and northern long-eared bats (covered species) will be minimized and mitigated to the maximum extent practicable. The draft HCP also describes the covered species' life history and ecology, biological goals and objectives, the estimated take and its potential impact on covered species populations, adaptive management and monitoring, and compensatory mitigation. Also included is the Service's draft environmental assessment (EA), which describes possible alternatives to the proposed permit action, including an analysis of potential effects on the human environment. We are seeking public comments on the permit application, draft HCP, and draft EA.

Endangered Species Act

Section 9 of the ESA prohibits “take” of fish and wildlife species listed as endangered under section 4 (16 U.S.C. 1538, and 1533, respectively). The ESA implementing regulations extend, under certain circumstances, the prohibition of take to threatened species (50 CFR 17.31). Under section 3 of the ESA, the term “take” means to harass, harm, pursue, hunt, shoot, wound, kill, trap, capture, or collect, or attempt to engage in any such conduct (16 U.S.C. 1532(19)). The term “harm” is defined by regulation as an act which actually kills or injures wildlife. Such act may include significant habitat modification or degradation where it actually kills or injures wildlife by significantly impairing essential behavioral patterns, including breeding, feeding, or sheltering (50 CFR 17.3). The term “harass” is defined in the regulations as an intentional or negligent act or omission which creates the likelihood of injury to wildlife by annoying it to such an extent as to significantly disrupt normal behavioral patterns, which include, but are not limited to, breeding, feeding, or sheltering (50 CFR 17.3).

Under section 10 of the ESA, the Service may issue permits to authorize incidental take of federally listed fish and wildlife species. “Incidental take” is defined by the ESA as “take that is incidental to, and not the purpose of, carrying out an otherwise lawful activity.” To obtain an ITP, an applicant must submit an HCP that specifies (1) the impact that will likely result from the taking; (2) what steps the applicant will take to monitor, minimize and mitigate the impacts, and the funding that will be available to implement such steps; (3) what alternative actions to the taking the applicant considered and the reasons why the alternatives are not being utilized; and (4) how the applicant will carry out any other measures that we may require as being necessary or appropriate for purposes of the HCP (50 CFR 17.22(b)(1)(iii); 50 CFR 17.32(b)(1)(iii)(C)). If we find, after opportunity for public comment, with respect to the permit application and the related HCP, that (1) the taking will be incidental; (2) the applicant will, to the maximum extent practicable, minimize and mitigate the impacts of such taking; (3) the applicant will ensure that adequate funding for the HCP will be provided, as well as procedures to deal with unforeseen circumstances; (4) the taking will not appreciably reduce the likelihood of the survival and recovery of the species in the wild; and (5) the measures, if any, required by us will be carried out; and we have received assurances that the plan will be implemented, then we will issue the applicant the requested permit (50 CFR 17.22, 17.32(b)(2)(i)). The purpose of the HCP process and subsequent issuance of a permit is to authorize the incidental take of threatened or endangered species, not to authorize the underlying activities that result in take. This process ensures that the effects of the authorized incidental take will be adequately minimized and mitigated to the maximum extent practicable.

National Environmental Policy Act

The proposed issuance of a permit is a Federal action that triggers the need for compliance with the National Environmental Policy Act of 1969, as amended (42 U.S.C. 4321 et seq.; NEPA). Pursuant to NEPA, we have prepared a draft EA to analyze the environmental impacts of three alternatives related to the issuance of the requested permit and implementation of the conservation program under the proposed HCP. The three alternatives analyzed in the EA are a no-action alternative, the proposed action, and a reduced take alternative.

No-action alternative: Under the no-action alternative, no permit would be issued and no HCP would be implemented.

Proposed action alternative: The proposed action alternative is the implementation of the Applicants proposed HCP and issuance of the requested permit as described above.

Reduced take alternative: The reduced take alternative evaluates potential modifications to the Applicants operating regime beyond those proposed by the Applicant.

Public Comments

All comments received, including names and addresses, will become part of the administrative record and may be made available to the public. Before including your address, phone number, email address, or other personal identifying information in your comment, you should be aware that your entire comment, including your personal identifying information, could be made publicly available at any time. While you may request at the top of your document that we withhold your personal identifying information from public review, we cannot guarantee that we will be able to do so.

Next Steps

We will evaluate the draft HCP and any comments we receive to determine whether the permit application meets the requirements of section 10(a) of the ESA. We will also evaluate whether issuance of the requested permit complies with section 7 of the ESA by conducting an intra-Service ESA section 7 consultation. Our EA process will culminate with a decision by the Service's Midwest Region Regional Director on one of the three alternatives found in the EA. Once an alternative is selected, the Regional Director will decide whether the alternative selected will significantly impact the quality of the human environment, as defined by the NEPA and its implementing regulations. If he finds that the alternative selected will not result in significant environmental impacts, he will issue a “Finding No Significant Impact.” If he finds that the alternative selected will result in significant environmental impacts, he will issue a Notice of Intent to prepare an Environmental Impact Statement (EIS).

Authority

This notice is provided pursuant to section 10(c) of the ESA and NEPA regulations (40 CFR 1506.6).

Dated: January 13, 2017.
Lori Nordstrom,
Assistant Regional Director, Ecological Services, Midwest Region.

[FR Doc. 2017-04663 Filed 3-8-17; 8:45 am]

BILLING CODE 4333-15-P